DEPARTMENT OF HEALTH AND HUMAN SERVICES

National Institutes of Health

National Institute of Child Health and Human Development; Notice of Closed Meeting

Pursuant to section 10(a) of the Federal Advisory Committee Act, as amended (5 U.S.C. Appendix 2), notice is hereby given of a meeting of the National Children's Study Advisory Committee.

The meeting will be open to the public, with attendance limited to space available. Individuals who plan to attend and need special assistance, such as sign language interpretation or other reasonable accommodations, should notify the Contact Person listed below in advance of the meeting.

Name of Committee: National Children's Study Advisory Committee.

Date: March 4-5, 2004.

Time: March 4, 2004, 8 a.m. to 5 p.m.

Agenda: Goals and objectives of this meeting will include a review of activities from the December 2003 meeting and discussions regarding the changing role of the Working Groups.

Place: Holiday Inn Select Bethesda, 8120 Wisconsin Avenue, Versaille I, Bethesda, MD 20814.

Time: March 5, 2004, 8:30 a.m. to 4 p.m.

Agenda: For additional information please visit the NCS Web site at www.nationalchildrensstudy.gov.

Place: Holiday Inn Select Bethesda, 8120 Wisconsin Avenue, Versaille I, Bethesda, MD 20814.

Contact Person: Jan Leahey, Executive Secretary, National Institute of Child Health and Human Development, NIH, 6100 Executive Boulevard, Room 4B09A, Bethesda, MD 20892, (301) 496-6593, ncs@mail.nih.gov.

This notice is being published less than 15 days prior to the meeting due to the timing limitations imposed by the review and funding cycle.

(Catalogue of Federal Domestic Assistance Program Nos. 93.864, Population Research; 93.865, Research for Mothers and Children; 93.929, Center for Medical Rehabilitation Research; 93.209, Contraception and Infertility Loan Repayment Program, National Institutes of Health, HHS)
Dated: February 18, 2004.
LaVerne Y. Stringfield,
Director, Office of Federal Advisory Committee Policy.

[FR Doc. 04-4083 Filed 2-24-04; 8:45 am]

BILLING CODE 4140-01-M